OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

Dates and Place: September 20, 2005, Washington, DC. The meeting will be held in Room 100 of the National Academies Keck Center located at 500 Fifth Street, NW., Washington, DC 20001.

Type of Meeting: Open. Further details on the meeting agenda will be posted on the PCAST Web site at: http://www.ostp.gov/PCAST/pcast.html.

Proposed Schedule and Agenda: The President's Council of Advisors on Science and Technology is scheduled to meet in open session on Tuesday, September 20, 2005, at approximately 9 a.m. The PCAST is tentatively scheduled to hear presentations on research and commercialization activities in the areas of pharmacogenomics (or personalized medicine) and alternative energy. These are both areas in which PCAST may undertake studies regarding the Federal role in research and development and the barriers and possible implications surrounding widespread adoption. A review and update of other PCAST topics (e.g., nanotechnology) is also tentatively scheduled to occur. This session will end at approximately 5 p.m. Additional information on the agenda will be posted at the PCAST Web site at: http://www.ostp.gov/PCAST/pcast.html.

Public Comments: There will be time allocated for the public to speak on the above agenda items. This public comment time is designed for substantive commentary on PCAST's work topics, not for business marketing purposes. Please submit a request for the opportunity to make a public comment five (5) days in advance of the meeting. The time for public comments will be limited to no more than 5 minutes per person. Written comments are also welcome at any time following the meeting. Please notify Celia Merzbacher, PCAST Executive Director, at (202) 456-7116, or fax your request/comments to (202) 456-6021.

FOR FURTHER INFORMATION CONTACT: For information regarding time, place and agenda, please call Celia Merzbacher at (202) 456-7116, prior to 3 p.m. on Friday, September 16, 2005. Information will also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Stanley S. Sokul,
General Counsel, Office of Science and Technology Policy.

[FR Doc. 05-17595 Filed 9-2-05; 8:45 am]

BILLING CODE 3170-W4-P